DEPARTMENT OF COMMERCE

National Oceanic and Atmospheric Administration

50 CFR Part 679

[I.D. 121701D]

Groundfish Fisheries of the Bering Sea and Aleutian Islands Area and the Gulf of Alaska

AGENCY: National Marine Fisheries Service (NMFS), National Oceanic and Atmospheric Administration (NOAA), Commerce.

ACTION: Notice of meeting to review proposed work plan for preparing a revised Alaska Groundfish Fisheries Draft Programmatic Supplemental Environmental Impact Statement (SEIS) and to discuss draft multi-objective policy alternatives.

SUMMARY: On November 27, 2001, NMFS announced its intent to revise the Alaska Groundfish Fisheries draft Programmatic SEIS. After reviewing more than 21,000 comment letters received on the draft Programmatic SEIS, NMFS determined that revisions to the draft Programmatic SEIS are appropriate and necessary. NMFS also determined that these revisions will require the release of a revised draft Programmatic SEIS. Based on these decisions, NMFS announced a new series of dates for preparing the revised draft, preparing the final programmatic SEIS, and issuing the Record of Decision.

This document announces that NMFS will hold three public meetings in Seattle, WA, and in Anchorage and Bethel, AK in January 2002 for the purpose of presenting a work plan, answering questions concerning the new work plan, and schedule, and soliciting public input on new, multi-objective policy alternatives.

DATES: See SUPPLEMENTARY INFORMATION under the heading “Meeting Dates and Addresses” for the dates of the public meetings.

ADDRESSES: See SUPPLEMENTARY INFORMATION under the heading “Meeting Dates and Addresses” for meeting addresses.

FOR FURTHER INFORMATION CONTACT: Steven K. Davis, Programmatic SEIS Coordinator, Anchorage, AK, (907) 271-3523.

SUPPLEMENTARY INFORMATION: On November 27, 2001, NMFS issued a notice informing the public of its decision to prepare a revised draft Programmatic SEIS and release that draft for public comment prior to preparing a final Programmatic SEIS. This decision was based on the agency’s review and preliminary analysis of the comments received on the draft Programmatic SEIS.

NMFS has scheduled two public meetings and is planning a third meeting in January 2002. The purpose of these meetings is to present a work plan for preparing the revised draft programmatic SEIS, answering questions concerning the work plan and schedule, and soliciting suggestions for draft multi-objective policy alternatives. The development of these new alternatives will be based on comments received on the January 2001 draft Programmatic SEIS, input received from the public at these January meetings, and on recommendations from the North Pacific Fishery Management Council (Council). The final suite of multi-objective policy alternatives will serve as the focus of the revised draft Programmatic SEIS.

Information on these meetings can also be found in the Council’s December 2001 newsletter. A meeting announcement will also be mailed to the Programmatic SEIS mailing list. Additional information concerning the meeting agenda and draft multi-objective policy alternatives will be posted on the NMFS Alaska Region’s website at http://www.fakr.noaa.gov and at the Council’s website at http://www.fakr.noaa.gov/npfmc prior to the meetings.

Meeting Dates and Addresses

1. January 22, 2002, 9 a.m. Pacific standard time - Alaska Fisheries Science Center, 7600 Sand Point Way N.E., Building 9, Room A/B, Seattle, WA.

2. January 24, 2002, 9 a.m. Alaska local time - Federal Courthouse, 222 West 9th Avenue, Room 154, Anchorage, AK.

3. Bethel, AK. The meeting will begin at 9 a.m. Alaska local time. The location and date to be announced (see websites for information).

Special Accommodations

The meetings will be physically accessible to people with disabilities. Requests for sign language interpretation or other auxiliary aids should be directed to Steven K. Davis (see FOR FURTHER INFORMATION CONTACT) at least 7 working days prior to the meeting date.

Authority: 16 U.S.C. 1801 et seq.

Dated: December 19, 2001.
Jonathan M. Kurland,
Acting Director, Office of Sustainable Fisheries, National Marine Fisheries Service.

[FR Doc. 01-31659 Filed 12-21-01; 8:45 am]

BILLING CODE 3510-22-S